DEPARTMENT OF LABOR

Occupational Safety and Health Administration

29 CFR Part 1952

State Plans: Coverage of the United States Postal Service and Other Coverage Issues—Changes to Level of Federal Enforcement for Alaska, Arizona, California, Hawaii, Indiana, Iowa, Kentucky, Maryland, Michigan, Minnesota, Nevada, New Mexico, North Carolina, Oregon, Puerto Rico, South Carolina, Tennessee, Utah, Vermont, Virginia, the Virgin Islands, Washington and Wyoming; Correction

AGENCY: Occupational Safety and Health Administration (OSHA), U.S. Department of Labor.

ACTION: Final rule; correction.

SUMMARY: The Occupational Safety and Health Administration published in the Federal Register on June 9, 2000 (65 FR 36617), a document amending its regulations on State Plans to reflect Federal coverage of the United States Postal Service and other coverage issues. In subpart Q, Kentucky, § 1952.236, where the plan may be inspected, was inadvertently designated as § 1952.96. This document corrects that designation.

EFFECTIVE DATE : June 9, 2000.

FOR FURTHER INFORMATION CONTACT: Bonnie Friedman, Director, Office of Information and Consumer Affairs, Occupational Safety and Health Administration, U. S. Department of Labor, Room N3637, 200 Constitution Avenue, NW., Washington, DC 20210, (202) 693-1999.

SUPPLEMENTARY INFORMATION:

Correction of Publication

In the final rule (FR Doc. 00-14150) published in the Federal Register on June 9, 2000 (65 FR 36617), make the following correction:

PART 1952—[CORRECTED]

§ 1952.236 [Corrected]

On page 36625, in the first column, following amendatory instruction 31, correctly designate § 1952.96 as § 1952.236.

Authority: This document was prepared under the direction of Charles N. Jeffress, Assistant Secretary of Labor for Occupational Safety and Health, U.S. Department of Labor, 200 Constitution Avenue, NW., Washington, DC 20210.

Signed at Washington, D.C. the 14th day of June, 2000.
Charles N. Jeffress,
Assistant Secretary.

[FR Doc. 00-15558 Filed 6-20-00; 8:45 am]

BILLING CODE 4510-26-P